Title 3—

The President

Proclamation 8841 of July 16, 2012

Captive Nations Week, 2012

By the President of the United States of America

A Proclamation

When President Dwight D. Eisenhower first proclaimed Captive Nations Week amidst an escalating Cold War, he affirmed that “the citizens of the United States are linked by bonds of family and principle to those who love freedom and justice on every continent.” Our world has changed dramatically since 1959, but those unbreakable bonds endure. During Captive Nations Week, America renews our abiding ties to all peoples who struggle to claim their inalienable rights.

From the Baltic Sea to the Balkan Peninsula, once-captive nations inspired the world when bold patriots stepped forward to regain their countries' sovereignty and their citizens' dignity. Today, we see the same courage in protesters who brave the line of fire to sound the call for reform. We see the same fierce hope in those who defy censorship and reach beyond an electronic curtain to connect with people around the world. As individuals rise to demand their universal rights, the United States stands with them in pursuit of equality, justice, and freedom.

As strongly as my Administration condemns tyranny, we embrace emerging democracies and welcome the chance to work with those who seek to restore their peoples' liberty. With our partners in the international community, we will continue striving to advance human rights, grow prosperity, and meet mutual challenges with global solutions. And as long as there are people who live in the darkness of oppression, America will remain their steadfast friend, linked by a common dream and our common ideals.

The Congress, by joint resolution approved July 17, 1959 (73 Stat. 212), has authorized and requested the President to issue a proclamation designating the third week of July of each year as “Captive Nations Week.”

NOW, THEREFORE, I, BARACK OBAMA, President of the United States of America, do hereby proclaim July 15 through July 21, 2012, as Captive Nations Week. I call upon the people of the United States to reaffirm our deep ties to all governments and people committed to freedom, dignity, and opportunity for all.

IN WITNESS WHEREOF, I have hereunto set my hand this sixteenth day of July, in the year of our Lord two thousand twelve, and of the Independence of the United States of America the two hundred and thirty-seventh.

[FR Doc. 2012-17948

Filed 7-19-12; 11:15 am]

Billing code 3295-F2-P